DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Work Experience and Career Exploration Programs (WECEP) Regulations, 29 CFR part 570.35a. A copy of the proposed information collection request can be obtained by contacting the office listed below in the addresses section of this Notice.

DATES: Written comments must be submitted to the office listed in the addresses section below on or before November 28, 2005.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION:

I. Background

The Fair Labor Standards Act (FLSA), 29 U.S.C. 201 et seq., section (3)(l) establishes a minimum age of 16 years for most nonagricultural employment but allows the employment of 14- and 15 year olds in occupations other than manufacturing and mining, if the Secretary of Labor determines such employment is confined to (1) periods that will not interfere with the minor's schooling and (2) conditions that will not interfere with the minor's health and well-being. FLSA section 11(c) requires all employers covered by the FLSA to make, keep and preserve records of their employees' wages, hours and other conditions and practices of employment. Regulations issued by the Secretary of Labor prescribe the recordkeeping and reporting requirements for these records. Subpart C of Regulations, 29 CFR part 570, Child Labor Regulations, Orders and Statements of Interpretation, sets forth the employment standards for 14- and 15-year olds (CL Reg. 3). Regulations 29 CFR 570.35a contains the requirements describing the criteria for use, occupations permitted and conditions of employment that allow employment of 14- and 15-year olds-pursuant to a school-supervised and school-administered Work Experience and Career Exploration Program (WECEP)—under the conditions CL Reg. 3 otherwise prohibits. In order to utilize the CL Reg. 3 WECEP provisions, regulations 29 CFR 570.35(b)(2) requires a state educational agency to file an application for approval of a state WECEP program as one not interfering with schooling or with the health and well-being of the minors involved. Regulations 29 CFR 570.35a(b)(3)(vi) requires preparation of a written training agreement for each student participating in a WECEP and that such agreement be signed by the teacher-coordinator, employer and student. The regulation also requires the student's parent or guardian to sign or otherwise consent to the agreement, in order for it to be valid. Regulations 29 CFR 570.35a(b)(4)(ii) requires state education agencies to keep a record of the names and addresses of each school enrolling WECEP students and the number of enrollees in each unit. The state or local educational agency office must keep a copy of the written training agreement for each student participating in the program and maintain these records for 3 years from the date of enrollment in the program. This information collection is currently approved for use through March 31, 2006.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of the extension of this information collection in order to carry out its responsibility to ensure compliance with the youth employment provisions of the FLSA and its regulations. Without this information, the Administrator would have no means to determine if the proposed program meets the regulatory requirements.

Type of Review: Extension.

Agency: Employment Standards Administration.

Titles: Work Experience and Career Exploration Programs (WECEP) Regulations, 29 CFR Part 570.35a.

OMB Number: 1215-0121.

Affected Public: Individual or households; State, Local or Tribal Government.

Frequency: Biennially.

Total Respondents: 14,014.

Total Annual Responses: 14,014.

Average Time Per Response:

Reporting:

WECEP Application—2 hours.

Written Training Agreement—1 hour.

Recordkeeping:

WECEP Program Information—1 hour.

Filing of WECEP Record and Training Agreement—one-half minute.

Total Burden Hours: 14,145.

Total Burden Cost (capital/startup): $0.

Total Burden Cost (operating/maintenance): $2.80.

Comments submitted in response to this notice will be summarized and/or included in the request for Office of Management and Budget approval of the information collection request; they will also become a matter of public record.

Dated: September 22, 2005.
Sue Blumenthal,
Acting Chief, Branch of Management Review and Internal Control, Division of Financial Management, Office of Management, Administration and Planning, Employment Standards Administration.

[FR Doc. 05-19325 Filed 9-27-05; 8:45 am]

BILLING CODE 4510-27-P